DEPARTMENT OF STATE

[Public Notice 7368]

Bureau of Educational and Cultural Affairs (ECA) Request for Grant Proposals: Open Competition for Professional Exchange Programs

Announcement Type: New Grant.

Funding Opportunity Number: ECA/PE/C-11-01.

Catalog of Federal Domestic Assistance Number: 19.415.

Fiscal Year Funds: 2011.

Application Deadline: May 12, 2011.

Executive Summary: The Office of Citizen Exchanges (ECA/PE/C), Bureau of Educational and Cultural Affairs (ECA), announces an open competition for grants to conduct the 2011 professional exchange programs. This opportunity is designed to bring young foreign professionals to the United States for four week to six week-long fellowships in organizations related to their field of work, followed by American counterparts who will travel overseas for reciprocal fellowships. Projects should take place over the course of one to two years, and engage up-and-coming and mid-level government or civil society professionals who will effect positive change in their institutions and communities through the following initiatives: The Legislative Fellows Program, the Women's Empowerment Program, and the Young Entrepreneurs Program.

U.S. public and non-profit organizations meeting the provisions described in Internal Revenue code section 26 U.S.C. 501(c) (3) may submit proposals that support the goals of these professional exchange programs (the Legislative Fellows Program, the Women's Empowerment Program, and the Young Entrepreneurs Program). The basic framework that should be followed for all three of these programs, including the expected outputs and program timeline, is described in sections I.2 through I.6 below. Elaboration on specific aspects of these programs, and the eligible countries, are provided in Section I.7 below.

I. Funding Opportunity Description

I.1. Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

I.2. Purpose and Program Description

The 2011 professional exchange programs (the Legislative Fellows Program, the Women's Empowerment Program, and the Young Entrepreneurs Program) are two-way exchanges involving current or potential government and civil society leaders in the areas of entrepreneurship, the legislative process, and women's empowerment. This is one of two RFGPs being published simultaneously in the Federal Register to support the overall goals and objectives of the 2011 professional exchange programs.

Reflecting both Department and Bureau priorities, those goals are to: (1) Provide participants from eligible countries an opportunity to gain knowledge of U.S. practices and techniques in their field of expertise; explore governance principles and practices in both public and civil society institutions in the United States, and gain a deeper understanding of U.S. society, culture, and people; (2) provide U.S. participants the opportunity to share their professional expertise with counterparts in eligible countries and gain a deeper understanding of the societies, cultures, and people of other countries; and 3) promote mutual understanding and lasting, mutually beneficial partnerships between key professionals and organizations in the United States and their counterparts in eligible countries.

As a result of the program it is expected that participants from both the U.S. and foreign countries will effect positive change in their workplaces and communities and develop long-term engagement between their home organizations and foreign counterparts.

I.3. Participants. “Participants” are defined as those who travel under grant funding from their country of origin to a designated exchange country. It is acceptable for there to be more foreign participants than American participants under this program model; however, applicants are encouraged to include approximately as many American as foreign participants to emphasize that this program is reciprocal in nature.

Foreign participants should be selected through a merit-based, competitive process. They should be up-and-coming and mid-level government or civil society professionals with experience and current employment related to one of the designated areas. Because of the nature of this program, all selected participants must be highly proficient in written and oral English, self-directed, able to work effectively in a cross-cultural setting, and have demonstrated leadership abilities.

U.S. participants should include professionals with relevant expertise from the government and civil society organizations where the foreign participants are placed. While U.S. participants are not required to have foreign language ability or previous country-specific experience, it is highly encouraged.

I.4. Partner Organizations. Applicants must identify the U.S.-based and foreign-based organizations and individuals with whom they are proposing to collaborate and describe previous cooperative activities, if any. Successful proposals will include qualified and established partner organizations/offices in each of the regions where participants are being recruited. Also, proposals must demonstrate capacity in the U.S. to secure relevant fellowship placements for foreign participants: Proposals that include this information—especially with letters of commitment from possible U.S-based host organizations—will be deemed more competitive.

I.5. Project Outputs. Successful grant applicants must fully demonstrate a capacity to provide the following project outputs:

I.5a. Recruit participants. The grant recipient will recruit and select qualified individuals from throughout the target country(ies) for two cohorts of both U.S. and foreign participants. Foreign participants should be selected, with the knowledge and participation of the Public Affairs Section (PAS) of the U.S. Embassy, through a merit-based, competitive process. Unless an organization has its own presence in the partner country(ies), an in-country or regional partner organization should be designated to coordinate participant screening, selection, and orientation prior to their departure for the United States. While the PAS should be involved in participant selection, responsibility for coordination and implementation will lie completely with the grantee organization.

I.5b. Facilitate the visa process. The grant recipient will work with ECA and the PAS to procure U.S. visas for foreign participants and work directly with the foreign embassy of the partner country to arrange visas for U.S. travelers. The recipient will collect and deliver to ECA/PE/C all biographical information from foreign participants necessary to complete the DS-2019 form required for J-1 visas. ECA will issue the DS-2019 forms required for J visas; see Section IV.3d.1. for additional information related to the administration of J visa programs.

I.5c. Arrange all round-trip international travel. The recipient will comply with all federal regulations regarding the use of U.S. government funds for travel including the Fly America Act.

I.5d. Conduct two rounds of U.S. Participant Engagement. The grant recipient will be responsible for arranging four-week to six-week fellowships in the United States for foreign participants. Fellowships should be designed to offer the maximum hands-on experience for all participants within relevant agencies and/or organizations. One placement that allows the participant to get an insider look and feel of the organization is preferable to serial, short-term placements with several organizations. The purpose of each placement is to provide first-hand experience of the inner, day-to-day workings of a relevant U.S. workplace and an opportunity for the participant to form work and personal relationships with U.S. co-workers. While some group activities may be appropriate, site visits where the participants have only a brief glimpse of a variety of organizations should be kept to a minimum.

The Program Office anticipates that all proposals will adhere to the model outlined in this RFGP. However, in very limited circumstances, when a compelling reason exists to deviate slightly from the program model (for example a somewhat shortened timeline, or alternate dates), this will be taken it into consideration in the review process.

I.5e. Engage with participants via the ECA Alumni social network. Grantees should describe plans to utilize the ECA Alumni Web site, a proprietary social networking site for the exclusive use of ECA program participants, grantee organizations, and ECA program staff. Grantees should communicate with their participants through the Web site from the time they are identified, through the life of the project and beyond. The site can be used to provide logistical information to the participants as well as project content. The award recipient must be able to create a dynamic on-line environment and substantive content that engages participants in on-going group discussions on programmatic themes as they relate to the participants' experience in the U.S. and their home countries.

I.5f. Conduct two rounds of overseas activities for U.S. participants. The recipient will arrange two to three weeks of overseas travel for U.S. participants to conduct on-site consultancies and joint programming with foreign participants and their colleagues, and, if appropriate and feasible, arrange fellowship placements for U.S. participants to learn from their counterparts and share their professional expertise. Proposals should present a convincing and detailed work plan for the U.S. participants while they are with the home organizations of the foreign participants. Activities should engage a wide range of people and focus on building the sustainability of the participants' professional and institutional relationships beyond the grant period.

I.5g. Conduct a Pre-Departure Orientation and an In-Country Orientation for all Participants. The grantee will be responsible for conducting a pre-departure orientation for foreign participants prior to their departure from their home countries. The grantee should also provide a comprehensive orientation for foreign participants upon their arrival in the United States and for U.S. Participants prior to their travel abroad. Many, if not most, of the foreign participants will never have been to the U.S. before this project. Pre-departure orientation topics should include an overview of travel logistics, arrival information, J-1 visa regulations, programmatic expectations, as well as issues related to U.S. culture, and their programs. Their orientation should provide not only information on their fellowship placements and logistics, but also cover more day-to-day considerations for working and living in the U.S., such as information on the community where they'll be located, cross-cultural issues, standards of conduct, etc. Project goals, performance measurements, a calendar of events and the participants' place in the wider project and program should be discussed.

I.5h. Facilitate the participation of the foreign professional participants in two Professional Exchanges Congresses. At the conclusion of each round of U.S.-based fellowships, the grantee will coordinate with ECA and other grant recipients in implementing a three-day Congress in Washington, DC, for all FY 2011 professional exchange participants from foreign countries. The Professional Exchanges Congress is intended to provide the participants:

• The opportunity to network with colleagues from around the world, sharing their own U.S. experience and learning about the experiences of others;

• A contextual framework for understanding the “fellowship experience”, the broader exchange program, and civil society issues as they pertain to individual professional backgrounds and expertise;

• Substantive dialogue to examine the interplay of government and civil society;

• A deeper understanding of the ways an individual, organization, or interest group can generate change for the common good; and

• An enhanced appreciation of the importance of public diplomacy in the global community.

Grantees must be willing and able to participate in regularly scheduled planning meetings via teleconference with ECA and other grantee organizations. Grantees' ability and willingness to work collaboratively are key to making each Congress a meaningful and significant capstone that ties seamlessly with individual projects and participants' experience.

It is anticipated that a grant for the overall planning, management, and implementation of the Congresses will be awarded in a separate competition (ECA/PE/C-11-21) to which grant recipients of this funding opportunity (ECA/PE/C-11-01) and other U.S. public and non-profit organizations meeting the provisions described in Internal Revenue code section 26 U.S.C. 501(c)(3) will be eligible to apply.

I.5i. Monitor, evaluate, and report on project. The Department of State places high importance on monitoring and evaluation as a means of ensuring and measuring a project's success. Proposals must include a detailed monitoring and evaluation plan that assesses the impact of the project on the participant, his/her organization, and community. Please refer to section. IV.3d.3. Project Monitoring and Evaluation below.

I.5j. Carry out post-grant engagement. The grant recipient will develop enhancement activities that reinforce project goals after the participants' return to their home country. This includes encouraging participants' on-going involvement with the on-line Alumni community and helping them maintain and expand their ties to their fellowship placement organizations.

I.5k. Conduct Re-entry Seminar. The grant recipient will conduct an in-country re-entry seminar or “debrief” for all returning foreign participants. If possible, the dates of the seminar or debrief should coincide with international arrival schedules to ensure limited domestic travel and good stewardship of federal funds. The grant recipient should consult with the Public Affairs Section on the development of the program date and agenda. The seminar should be interactive in nature with a special emphasis on creating a forum for participants to share their reflections and observations of their U.S. exchange experience.

I.5l. Manage all financial aspects of the project. The grantee will be responsible for budget oversight and management of project activities, including participant costs and transparent arrangements of sub-grant relationships with partner organizations, if applicable.

Important: Logistics for the Washington, DC, Congresses, including local transportation, lodging and meals for all participants, will be covered under a separate grant. Therefore, these expenses should NOT be included in individual budgets under this solicitation. Please see IV.3e.2o for further details.

I.6. Projected Timeline. ECA envisions the 2011 professional exchange programs calendar as follows:

• Fall 2011: Planning for first foreign cohort travel to the U.S. (participant recruitment, selection; J-1 visas; arranging fellowship placements, etc.)

• April 2012: Travel to the U.S. by the first cohort of foreign participants for four-week to six-week fellowships.

• May 2-4, 2012: Three-day enrichment component in Washington, DC, at the end of the U.S. stay that includes a Professional Exchanges Congress for all Spring 2012 participants.

• Spring 2012: Planning for first U.S. cohort travel abroad (schedule, flights visas; etc.)

• Summer 2012: Travel by the first cohort of U.S. participants overseas for two to three weeks.

• Summer 2012: Planning for second foreign cohort travel to U.S.

• September/October 2012: Travel to the U.S by second cohort of foreign participants for four-week to six-week fellowships.

• November 7-9, 2012: Three-day enrichment component in Washington, DC, at the end of the U.S. stay that includes a Professional Exchanges Congress for all Fall 2012 participants.

• Fall 2012: Planning for second U.S. cohort travel abroad.

• Winter 2012-3: Travel by the second cohort of U.S. participants overseas for two to three weeks.

I.7. Only proposals that involve the following will be considered technically eligible:

I.7a. Legislative Fellows Program

The Legislative Fellows Program will engage professionals who are actively involved in the legislative process and/or policy-making through their work in government, civic education organizations, citizen advocacy groups, political parties, or election monitoring organizations. During their time in the United States, the participants will examine the relationship between civil society and government, and the issue of public corruption and accountability. Participants will observe the role of their U.S. counterparts in various levels of the U.S. government, through placements in Congressional offices (including state/district offices), state legislatures, city councils/local government bodies, advocacy groups or other relevant organizations across the United States, engage in dialogue, and develop plans for projects that support more responsive social and political institutions.

U.S. participants will be selected from staff members at the various fellowship sites who will act as primary hosts/mentors to the foreign fellows during their U.S. stay, including staff of the U.S. Congress, state legislatures, city councils/local governments, and advocacy groups. After the U.S.-based fellowships are completed, these American participants will travel overseas to their counterparts' home countries for on-site consultancies and joint programming with foreign participants and their colleagues, and, if appropriate and feasible, arrange fellowship placements for U.S. participants to learn from their counterparts and share their professional expertise. This programming could also include outreach activities, engaging the local media and giving presentations to wider audiences.

I.7a.1. Sub-Saharan Africa (AF): Angola, Kenya, Nigeria, South Africa, Zimbabwe

Proposals submitted under this section of the Legislative Fellows Program should include one or more of the countries listed above.

Approximate Grant Award: $350,000 to $450,000

Approximate no. of participants per award: 35 to 45

Program Contact: Jim Ogul, tel: (202) 632-6055, e-mail: OgulJE@state.gov.

I.7a.2. East Asia and Pacific (EAP): Cambodia, Indonesia, Mongolia, Taiwan

Proposals submitted under this section of the Legislative Fellows Program should include at least three (3) of the countries/territories listed above.

Approximate Grant Award: $350,000 to $450,000

Approximate no. of participants per award: 35 to 45

Program Contact: Adam Meier, tel: (202) 632-6067, e-mail: MeierAW2@state.gov.

I.7a.3. Europe (EUR): Armenia, Azerbaijan, Georgia, Moldova, Russia, Turkey, Ukraine

Proposals submitted under this section of the Legislative Fellows Program should include all of the countries listed above. Participants from Russia and Turkey combined should constitute at least one half of the total participants.

Approximate Grant Award: $900,000 to $1,000,000

Approximate no. of participants per award: 90 to 100

Program Contact: Linnéa E. Allison, tel: (202) 632-6060, e-mail: AllisonLE@state.gov.

I.7a.4. Europe (EUR): Bulgaria, Denmark, Estonia, Hungary, Latvia, Lithuania, Romania, Slovakia

Proposals submitted under this section of the Legislative Fellows Program should include at least three (3) of the countries listed above, and should have a specific focus on the involvement of minority communities and/or the immigrant population in legislatures and government.

Approximate Grant Award: $350,000 to $450,000

Approximate no. of participants per award: 35 to 45

Program Contact: Linnéa E. Allison, tel: (202) 632-6060, e-mail: AllisonLE@state.gov.

I.7a.5. Near East/North Africa (NEA): Bahrain, Egypt, Iraq, Kuwait, Morocco, Oman, Palestinian Territories, Qatar, Saudi Arabia, Syria, Tunisia, the United Arab Emirates, and Yemen

Proposals submitted under this section of the Legislative Fellows Program may include multiple countries or be single-country projects.

Approximate Grant Award: $350,000 to $450,000

Approximate no. of participants: 35 to 45

Program Contact: Thomas Johnston, tel: (202) 632-6056, e-mail: JohnstonTJ@state.gov.

I.7a.6. South and Central Asia (SCA): Afghanistan, Bangladesh, India, Kazakhstan, Kyrgyzstan, Nepal, Sri Lanka and Pakistan

Proposals submitted under this section of the Legislative Fellows Program should include at least five (5) of the countries listed above, and should include within the broader program (i.e. not limited solely to) a focus on grassroots involvement and youth engagement in civil society/political decisionmaking. For proposals that include Afghanistan, security conditions will dictate whether it will be possible to conduct programming for American participants in Afghanistan, and this should be addressed specifically, including appropriate contingencies.

Approximate Grant Award: $650,000 to $750,000

Approximate no. of participants per award: 65 to 75

Program Contact: Karin Brandenburg, tel: (202) 632-9368, e-mail: BrandenburgKL@state.gov.

I.7a.7. Western Hemisphere (WHA): Argentina, Bolivia, Brazil, Colombia, Dominican Republic, Ecuador, El Salvador, Guatemala, Haiti, Honduras, Jamaica, Mexico, Nicaragua, Paraguay, Peru, Venezuela

Proposals submitted under this section of the Legislative Fellows Program must include participants from Mexico and Brazil, and at least seven (7) additional countries from the above list, including representative countries from 2 Caribbean, 2 Central American, and 3 South American countries.

Approximate Grant Award: $650,000 to $750,000

Approximate no. of participants per award: 65 to 75

Program Contact: Carol Herrera, tel: (202) 632-6054, email: HerreraCA1@state.gov.

I.7b. Women's Empowerment Program

The Women's Empowerment Program will focus on the unique interests of women in issues that affect the broader society, including business, civil society, and journalism. Participants will represent women-owned businesses, non-governmental organizations, healthcare industries, and educational institutions. During their 4-6 week fellowships in the United States, participants will gain firsthand knowledge of how organizations and institutions advocate on behalf of women and their critical role in community advancement, while also participating in site visits and specially-designed seminars.

U.S. participants will be selected from those individuals who act as primary hosts/mentors to the foreign participants during their U.S. stay. After the U.S.-based fellowships are completed, these American participants will travel overseas to the participants' home countries to engage with their counterparts on the role of women in civil society. The programs will include joint programming with foreign participants and their colleagues, and, if appropriate and feasible, fellowship placements for U.S. participants. This programming could also include outreach activities, engaging the local media and giving presentations to wider audiences.

I.7b.1. Sub-Saharan Africa (AF): Angola, Ghana, Kenya, Nigeria, Senegal, South Africa, Zimbabwe

Proposals submitted under this section of the Women's Empowerment Program should include at least two (2) of the countries listed above and specifically emphasize women's entrepreneurship and employment skills development for participation in the workforce.

Approximate Grant Award: $350,000 to $450,000

Approximate no. of participants per award: 35 to 45

Program Contact: Jim Ogul, tel: (202) 632-6055, e-mail: OgulJE@state.gov.

I.7b.2. Sub-Saharan Africa (AF): Angola, Ghana, Kenya, Nigeria, Senegal, South Africa, Zimbabwe

Proposals submitted under this section of the Women's Empowerment Program should include at least two (2) of the countries listed above and specifically emphasize building partnerships between U.S. and international women and organizations devoted to health issues such as HIV/AIDS, nutrition, maternal health, disease prevention, gender-based violence or other relevant health issues.

Approximate Grant Award: $350,000 to $450,000

Approximate no. of participants per award: 35 to 45

Program Contact: Jim Ogul, tel: (202) 632-6055, e-mail: OgulJE@state.gov.

I.7b.3. East Asia and Pacific (EAP): Cambodia, Laos, Thailand, Vietnam

Proposals submitted under this section of the Women's Empowerment Program should be regional in scope, including all four (4) of the Lower Mekong countries listed above and should endeavor to empower women to increase local capacity and connectivity. Specifically, proposals should emphasize strengthening local community infrastructure and capacity, especially in the area of technology, such as improving women's access to reliable mobile technology and services. Participants should be placed at non-governmental organizations, advocacy groups, relevant government offices, small businesses or other related organizations and focus on advancing gender equality by bringing together women and technology.

Program Contact: Adam Meier, tel: (202) 632-6071, e-mail: MeierAW2@state.gov.

Approximate Grant Award: $350,000 to $450,000

Approximate no. of participants per award: 35 to 45

I.7b.4. East Asia and Pacific (EAP): Fiji, Marshall Islands, Micronesia, Palau, Papua New Guinea, Samoa, Timor-Leste, Tonga

Proposals submitted under this section of the Women's Empowerment Program should include at least four (4) of the countries listed above, and should focus on the development of civil society groups that focus on women.

Approximate Grant Award: $350,000 to $450,000

Approximate no. of participants per award: 35 to 45

Program Contact: Adam Meier, tel: (202) 632-6067, e-mail: MeierAW2@state.gov.

I.7b.5. East Asia and Pacific (EAP): Brunei, Burma, Cambodia, Indonesia, Laos, Malaysia, Philippines, Singapore, Thailand, Vietnam

Proposals submitted under this section of the Women's Empowerment Program should include at least four (4) of the countries listed above, with a specific emphasis on women's entrepreneurship.

Approximate Grant Award: $350,000 to $450,000

Approximate no. of participants per award: 35 to 45

Program Contact: Adam Meier, tel: (202) 632-6071, e-mail: MeierAW2@state.gov.

I.7b6. South and Central Asia (SCA): Afghanistan, Bangladesh, Kyrgyzstan, India, Nepal, Pakistan, Sri Lanka (including the Maldives)

Proposals submitted under this section of the Women's Empowerment Program include at least four (4) of the countries listed above. For proposals that include Afghanistan, security conditions will dictate whether it will be possible to conduct programming for American participants in Afghanistan, and this should be addressed specifically.

Approximate Grant Award: $350,000 to $450,000

Approximate no. of participants per award: 35 to 45

Program Contact: Karin Brandenburg, tel: (202) 632-9368, e-mail: BrandenburgKL@state.gov.

I.7b.7. Western Hemisphere (WHA): Brazil, Colombia, Dominican Republic, Jamaica, Trinidad & Tobago, El Salvador, Mexico, Haiti, Honduras, Guatemala, Barbados (and the Eastern Caribbean), Costa Rica

Proposals submitted under this section of the Women's Empowerment Program should support professionals who are actively involved in enhancing the role of civil society in the following sectors: Economic Development, Environmental Sustainability and Health. Projects should directly engage African descendant and indigenous communities.

Approximate Grant Award: $350,000 to $450,000

Approximate no. of participants per award: 35 to 45

Program Contact: Carol Herrera, tel: (202) 632-6054, email: HerreraCA1@state.gov.

I.7c. Young Entrepreneurs Program

The Young Entrepreneurs Program will engage small business owners, business professionals and business educators, to observe best practices in business, engage in dialogue with their peers in the U.S., and complete individually tailored fellowships in appropriate organizations. Participants will increase their understanding of the links between entrepreneurial activity and free markets, as well as the importance of transparency and accountability in business and government through the participants' direct involvement in American businesses.

U.S. participants will be selected from those individuals who act as primary hosts/mentors to the foreign fellows during their U.S. stay. After the U.S.-based fellowships are completed, these American participants will travel overseas to the participants' home countries for on-site consultancies and joint programming with foreign participants and their colleagues, and, if appropriate and feasible, arrange fellowship placements for U.S. participants to learn from their counterparts and share their professional expertise. This programming could also include outreach activities, engaging the local media and giving presentations to wider audiences.

I.7c.1. East Asia and Pacific (EAP): Ngwang Choephel Fellows Program—Tibetan Autonomous Region or Tibetan areas of China

Proposals submitted under this section of the Young Entrepreneurs Program should be designed to carry out a two-way Professional program as described in section I.2 through I.6 above, but on a smaller scale; it is expected that there will only be one cycle of participants under this program, as opposed to the two cycles described in the 2011 professional exchange program overview. The economic outcomes on which the proposals focus could, for example, include economic activity related to cultural preservation and eco-tourism. Proposals should incorporate alternate plans into their narrative in anticipation of any difficulties of participants traveling to or from the Tibetan Autonomous Region or the Tibetan areas of China.

Program Contact: Linnéa E. Allison, tel: (202) 632-6060, e-mail: AllisonLE@state.gov.

Approximate Grant Award: $200,000 to $250,000

Approximate no. of participants per award: 20 to 25

I.7c.2. Near East/North Africa (NEA): Algeria, Egypt, Israel, Libya, Morocco, Palestinian Territories, Syria

Proposals submitted under this section of the Young Entrepreneurs Program should include at least four (4) of the countries listed above.

Approximate Grant Award: $350,000 to $450,000

Approximate no. of participants per award: 35 to 45

Program Contact: Thomas Johnston, tel: (202) 632-6056, e-mail: JohnstonTJ@state.gov.

I.7c.3. South and Central Asia (SCA): Afghanistan, Bangladesh, Sri Lanka, Tajikistan

Proposals submitted under this section of the Young Entrepreneurs Program should include at least one of the countries listed above, and should focus on strengthening the entrepreneurial system in each country, advocating and enabling greater economic diversification. For proposals that include Afghanistan, security conditions will dictate whether it will be possible to conduct programming for American participants in Afghanistan, and this should be addressed specifically.

Approximate Grant Award: $350,000 to $450,000

Approximate no. of participants per award: 35 to 45

Program Contact: Karin Brandenburg, tel: (202) 632-9368, e-mail: BrandenburgKL@state.gov.

I.7c.4. Western Hemisphere (WHA): Brazil, Colombia, Dominican Republic, Jamaica, Trinidad & Tobago, El Salvador, Mexico, Haiti, Honduras, Guatemala, Ecuador

Proposals submitted under this section of the Young Entrepreneurs Program will engage professionals who are actively involved in working to improve the lives of young people living in communities threatened by conflict and insecurity due to lack of positive economic opportunities. Proposals should focus on engaging young social entrepreneurs to promote sustainable and inclusive community economic empowerment. Projects should engage African Descendants, Indigenous peoples, and other socially excluded communities. Fellows from communities confronted by drugs, crime, and gang violence can be community leaders, educators, and other youth-program implementers who are placed with government, NGO and community organizations that work with youth to offer positive alternatives to gangs, drug-trafficking, and associated violence.

Approximate Grant Award: $350,000 to $450,000

Approximate no. of participants per award: 35 to 45

Program Contact: Carol Herrera, tel: (202) 632-6054, Email: HerreraCA1@state.gov.

I.8. What to Include in Your Proposal

I.8a. Executive Summary. The Executive Summary should be one page in length and include the project title, the goals of the project, the target countries, the names of all partner organizations responsible for project implementation, the numbers of participants, both foreign and American, and the number of proposed exchanges and approximate dates.

I.8b. Proposal Narrative. In 20, double-spaced pages the narrative should include:

I.8b.1. Project Goals, Objectives, Anticipated Outcomes. A clear, succinct statement of project goals, objectives and anticipated outcomes that expand upon ECA/PE/C goals as stated in this RFGP. Objectives should be described in specific, measurable, and realistic terms that are achievable within the scope of the project, both in terms of time and funding. They should be framed from the participant perspective, i.e., “By (time), the participants will * * *” They should be guided by one or more of the following questions. (Please see section IV.3d.3. Project Monitoring and Evaluation for assistance in identifying and defining outcomes.)

1. What specifically will participants, U.S. and foreign, learn as a result of this project?

2. What new attitudes will participants, U.S. and foreign, develop, or what new ideas will they encounter as a result of this project?

3. How will the participants' behavior change as a result of this project? What new actions will they take?

4. Will participants be a catalyst for change in their schools, work-places, communities, or institutions? How so?

Proposals that clearly delineate salient objectives in measurable terms and plan activities in a sequence that will progressively lead to achieving those objectives, will be considered more competitive.

I.8b.2. Background Information on Implementing Organizations. Information on all organizations and staff involved in the implementation of the project including the mission, relevant expertise in the project theme and country(ies), examples of past activities and accomplishments, on-going and planned activities not including the proposed project.

I.8b.3. Roles and Responsibilities. A clear delineation of the roles and responsibilities of all partner organizations in terms of project logistics, management, and oversight.

I.8b.4. Project Management Plan. A simple project management plan for the two-year life of the project that lists, in table format, outputs (major events or tasks performed by the grantee organization or partners), dates and the person or group responsible.

I.8b.5. Support of Diversity. A description on how the Bureau's policy on Support of Diversity will be integrated into all aspects of the project including but not limited to fellowship placements, program materials, training methodology, etc. Please refer to guidance in PSI under “Diversity, Freedom and Democracy Guidelines.”

I.8b.6. Post-grant Plan. A post-grant plan that demonstrates how the grantee and participants will collaborate and communicate after the ECA-funded grant has concluded.

I.8b.7. Evaluation Plan. An evaluation plan that follows the guidance provided in this RFGP. Please refer to section IV.3d.3. “Project Evaluation” below. Detailed evaluation plans that put the narrative over the 20-page limit and sample surveys or other evaluation tools may be included in TAB E.

I.8b.8. Budget. Please refer to section IV.3e. Budget Submission in this document and the PSI for guidance on preparing your budget.

I.8b.9. Working with the ECA Office of Public Affairs and Strategic Communications and the Public Affairs Section. Proposals should include plans to work with ECA's Office of Public Affairs and Strategic Communications in developing a coordinated media and public outreach strategy to strengthen the identity, increase the program's visibility, and raise the public awareness of the Legislative Fellows Program, the Women's Empowerment Program, and the Young Entrepreneurs Program. All grantees will need to incorporate the respective program's brand (provided by ECA) and give credit to ECA throughout all of its educational and outreach materials including its website with final approval by ECA.

Proposals should also include an articulated plan as to how the grantee plans to work closely with the Public Affairs Section of the U.S. Embassy in the relevant country(ies) to develop plans for project implementation, to select project participants, conduct outreach, and to invite representatives of the Embassy(ies) and/or consulate(s) to participate in project sessions or site visits. Grantee organizations should include a scheduled debrief with Embassy representatives following the foreign participants' return to their home countries, and where possible, at the conclusion of the U.S. participants' visit. All plans must be approved by ECA.

I.8b.10. Acknowledging ECA's Financial Support and use of program logo. An acknowledgement to follow guidance in the PSI entitled “Acknowledgement of ECA's Financial Support and Use of the Department Seal”. Proposals should also indicate that grantee organization's plan to use the three ECA-developed program logos (one each for the Legislative Fellows Program, the Women's Empowerment Program, and the Young Entrepreneurs Program) in all relevant program materials, applications, websites, and other related materials.

I.8b.11. Alumni Outreach. An acknowledgement to comply with “ECA's General Policy Guidance on Alumni Outreach/Follow-on and Engagement” provided in the PSI.

I.8c Attachments

I.8c.1. Resumes. Resumes of principal staff of all partner organizations involved in the implementation of the project should be included in TAB E.

I.8c.2. Letters of Commitment and/or letters of support. Letters of commitment or support from partner organizations partner institutions should demonstrate a capacity to arrange and conduct U.S. and overseas activities and should also be included in TAB E.

I.8c.3. Project Materials. Materials that help demonstrate project design and implementation should be included in TAB E. These include:

1. Draft agendas of professional workshops, conferences and seminars including pre-departure, orientation and final conference activities

2. Draft application and recruitment materials

3. Draft selection and interview materials

4. Outline of alumni programming including sample of small grant applications

5. Sample evaluation and survey instruments

6. Project management plan

7. Project promotional materials

8. Sample of any on-line sessions

I.8c.4. Unsolicited Documents. Attachments that do not directly address the proposed project (i.e., organization brochures, pamphlets, unsolicited reports) are strongly discouraged.

II. Award Information

II.1. Type of Award: Grant Agreement.

II.2. Fiscal Year Funds: FY 2011.

II.3. Approximate Total Funding: $8,300,000.

II.4. Approximate Number of Awards: 15-20.

II.5. Approximate Average Award: $400,000.

III. Eligibility Information:

III.1. Eligible applicants: Applications may be submitted by public and private non-profit organizations meeting the provisions described in Internal Revenue Code section 26 USC 501(c)(3).

III.2. Cost-Sharing or Matching Funds: There is no minimum or maximum percentage required for this competition. However, the Bureau encourages applicants to provide maximum levels of cost-sharing and funding in support of its programs.

When cost-sharing is offered, it is understood and agreed that the applicant must provide the amount of cost-sharing as stipulated in its proposal and later included in an approved agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost-sharing as stipulated in the approved budget, ECA's contribution will be reduced in like proportion.

III.3. Four Years of Exchange Experience. Bureau grant guidelines require that organizations with less than four years experience in conducting international exchanges be limited to $60,000 in Bureau funding. ECA anticipates making awards in an amount from $300,000 and higher to support program and administrative costs required to implement the projects under this RFGP. Therefore, organizations with less than four years experience in conducting international exchanges are ineligible to apply under this competition.

III.4. Technical Eligibility: All proposals must comply with the following or they will result in your proposal being declared technically ineligible and given no further consideration in the review process.

• Eligible applicants may not submit more than one proposal under this competition.

• Eligible applicants may only propose working with the countries and themes listed under each of the themes of this RFGP.

• No funding is available exclusively to send U.S. citizens to conferences or conference type seminars overseas; nor is funding available for bringing foreign nationals to conferences or to routine professional association meetings in the United States.

• Please refer to the Proposal Submission Instruction (PSI) document for additional requirements.

IV. Application and Submission Information

Note: Please read the complete Solicitation Package before sending inquiries or submitting proposals. All applicants are strongly encouraged to consult with the Washington, DC-based State Department contact for the themes/regions listed in this solicitation. Applicants are also strongly encouraged to consult with Public Affairs Officers at U.S. Embassies in relevant countries as they develop proposals responding to this RFGP. Once the RFGP deadline has passed, Bureau and Embassy staff may not discuss this competition with applicants until the proposal review process has been completed.

IV.1. Contact Information To Request a Solicitation Package

Please contact David Gustafson in the Office of Citizen Exchanges, ECA/PE/C, U.S. Department of State, SA-5, 3rd Floor, 2200 C St, NW., Washington, DC 20037, ph: (202) 632-6083, GustafsonDP@state.gov, to request a Solicitation Package. Please refer to the Funding Opportunity Number ECA/PE/C-11-01 located at the top of this announcement when making your request. An electronic solicitation package may be obtained from http://www.grants.gov. Please see section IV.3f for further information.

IV.2. To Download a Solicitation Package Via the Internet: The entire Solicitation Package may be downloaded from the Bureau's Web site at http://exchanges.state.gov/grants/open2.html or from the Grants.gov Web site at http://www.grants.gov/search/search.do;jsessionid=Jq8YKvxYr8YPgjW2VSLdBhwhY0NxsFzdgctFJGDpfQYdJV2GzJl9!-1163459943?mode=AGENCYSEARCH&agency=DOS. Please read all information before downloading.

IV.3. Content and Form of Submission: Applicants must follow all instructions in the Solicitation Package. The Solicitation Package includes both the Request for Grant Proposals (RFGP) and the Proposal Submission Instruction (PSI) document, which consists of required application forms, and standard guidelines for proposal preparation. Applicants should assure that proposals respond to guidance provided in both documents.

IV.3a. DUNS number. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. Proposal Components: All proposals must contain an executive summary, proposal narrative and budget. Please refer to the Solicitation Package. It contains the mandatory Proposal Solicitation Instructions (PSI) document for additional formatting and technical requirements.

IV.3c. Registration and Non-Profit Status: All federal award recipients and sub-recipients must maintain current registrations in the Central Contractor Registration (CCR) database and have a Dun and Bradstreet Data Universal Numbering System (DUNS) number. Recipients and sub-recipients must maintain accurate and up-to-date information in the CCR until all program and financial activity and reporting have been completed. All entities must review and update the information at least annually after the initial registration and more frequently if required information changes or another award is granted.

You must have nonprofit status with the IRS at the time of application. Please note: Effective January 7, 2009, all applicants for ECA federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one- page description of grant activities, will be transmitted by the State Department to OMB, along with other information required by the Federal Funding Accountability and Transparency Act (FFATA), and will be made available to the public by the Office of Management and Budget on its USASpending.gov website as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Additional Information

IV.3d1. Adherence to All Regulations Governing the J Visa

The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving awards (either a grant or cooperative agreement) under this RFGP will be third parties “cooperating with or assisting the sponsor in the conduct of the sponsor's program.” The actions of recipient organizations shall be “imputed to the sponsor in evaluating the sponsor's compliance with” 22 CFR part 62. Therefore, the Bureau expects that any organization receiving an award under this competition will render all assistance necessary to enable the Bureau to fully comply with 22 CFR part 62 et seq.

The Bureau of Educational and Cultural Affairs places critically important emphases on the secure and proper administration of Exchange Visitor (J visa) Programs and adherence by recipient organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR part 62 et seq., including the oversight of their Responsible Officers and Alternate Responsible Officers, screening and selection of program participants, provision of pre-arrival information and orientation to participants, monitoring of participants, proper maintenance and security of forms, recordkeeping, reporting and other requirements. The Office of Citizen Exchanges of ECA will be responsible for issuing DS-2019 forms to participants in this program. A copy of the complete regulations governing the administration of Exchange Visitor (J) programs is available at http://travel.state.gov/visa/temp/types/types_1267.html or from: United States Department of State, Office of Exchange Coordination and Designation, (ECA/EC/D), SA-5, Floor C2, Department of State, Washington, DC 20037.

IV.3d2. Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ``Support for Diversity'' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d3. Project Monitoring and Evaluation

Proposals must include a plan to monitor and evaluate the project's success, both as the activities unfold, at the end of the project and beyond. The Bureau recommends that each proposal include a draft survey questionnaire or other instruments plus a description of a methodology to be used to link outcomes to original project objectives. The Bureau expects that the grantee will track participants or partners and be able to respond to key evaluation questions, including satisfaction with the project, learning as a result of the project, changes in behavior as a result of the project, and effects of the project on institutions (institutions in which participants work or partner institutions). The evaluation plan should include indicators that measure gains in mutual understanding as well as substantive knowledge.

Successful monitoring and evaluation depend heavily on setting clear, participant-centric goals and intended outcomes at the outset of a project. Your evaluation plan should include a description of your project's objectives, your anticipated project outcomes, and how and when you intend to measure these outcomes (performance indicators). (Note the call for measurements at the baseline and for short term and longer-term outcomes.) The more that outcomes are “smart” (specific, measurable, attainable, results-oriented, and placed in a reasonable time frame), the easier it will be to conduct the evaluation. You should also show how your project objectives link to the ECA/PE/C goals described in this RFGP.

Your monitoring and evaluation plan should clearly distinguish between project outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change in participant learning, behavior, and at the participant's institution. Findings on outputs and outcomes should both be reported, but the emphasis should be on outcomes.

We encourage you to assess the following four levels of outcomes, as they relate to the program goals set out in the RFGP (listed here in increasing order of impact):

1. Participant satisfaction with the project and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of each monitoring and evaluation plan will be judged on how well it (1) Specifies intended outcomes; (2) gives clear descriptions of how each outcome will be measured; (3) identifies when particular outcomes will be measured; and (4) provides a clear description of the data collection strategies for each outcome (e.g., surveys, interviews, tests, or focus groups). (Please note that evaluation plans that deal only with the first level of outcomes [satisfaction] will be deemed less competitive under the present evaluation criteria.)

Grantees will be required to provide reports analyzing their evaluation findings to the Bureau in their regular project reports. All data collected, including survey responses and contact information, must be maintained for a minimum of three years and provided to the Bureau upon request.

IV.3e. Budget Submission. Please follow the guidelines in this section and consult the PSI when preparing the budget submission.

IV.3e.1. Form SF-424A. Applicants must submit SF-424A—“Budget Information—Non-Construction Programs” along with a comprehensive budget for the entire program. There must be a summary budget as well as breakdowns reflecting both administrative and program budgets. Applicants may provide separate sub-budgets for each program component, phase, location, or activity to provide clarification.

IV.3e.2. Allowable costs. Allowable costs for the project include the following:

IV.3e.2a. Travel. International and domestic airfare; airline baggage and seat fees; visas; transit costs; ground transportation costs. Please note that all air travel must be in compliance with the Fly America Act. There is no charge for J-1 visas for participants in Bureau sponsored projects.

IV.3e.2b. Per Diem. For U.S.-based programming, organizations should use the published Federal per diem rates for individual U.S. cities. Domestic per diem rates may be accessed at: http://www.gsa.gov/portal/category/21287. ECA requests applicants to budget realistic costs that reflect the local economy and do not exceed Federal per diem rates. Foreign per diem rates can be accessed at: http://aoprals.state.gov/content.asp?content_id=184&menu_id=78.

IV.3e.2c. Interpreters. We anticipate that all participants coming to the U.S. on this program have good English skills. However, if special circumstances warrant the use of interpretation, ECA strongly encourages applicants to hire their own locally-based interpreters but may ask ECA to assign State Department interpreters. One interpreter is typically needed for every four participants who require interpretation. When an applicant proposes to use State Department interpreters, the following expenses should be included in the budget: Published Federal per diem rates (both “lodging” and “M&IE”) and “home-program-home” transportation in the amount of $400 per interpreter. Salary expenses for State Department interpreters will be covered by the Bureau and should not be part of an applicant's proposed budget. Bureau funds cannot support interpreters who accompany delegations from their home country or travel internationally.

IV.3e.2d. Book and Cultural Allowances. Foreign participants are entitled to a one-time cultural allowance of $150 per person, plus a book allowance of $50. Interpreters should be reimbursed up to $150 for expenses when they escort participants to cultural events. U.S. project staff, trainers or participants are not eligible to receive these benefits.

IV.3e.2e. Consultants. Consultants may be used to provide specialized expertise or to make presentations. Honoraria rates should not exceed $250 per day. Organizations are encouraged to cost-share rates that would exceed that figure. Subcontracting organizations may also be employed, in which case the written agreement between the prospective grantee and sub-grantee should be included in the proposal. Such sub-grants should detail the division of responsibilities and proposed costs, and subcontracts should be itemized in the budget.

IV.3e.2f. Room rental. The rental of meeting space should not exceed $250 per day. Any rates that exceed this amount should be cost shared.

IV.3e.2g. Materials. Proposals may contain costs to purchase, develop and translate materials for participants. Costs for high quality translation of materials should be anticipated and included in the budget. Grantee organizations should expect to submit a copy of all project materials to ECA, and ECA support should be acknowledged on all materials developed with its funding.

IV.3e.2h. Supplies. Applicants may propose to use grant funds to purchase supplies, such as computers and printers; supply costs should be justified in the budget narrative. Costs for furniture are not allowed.

IV.3e.2i. Working meal. One working meal may be provided during each U.S.-based or foreign-based travel component. Per capita costs may not exceed $45/person, excluding room rental. The number of invited guests may not exceed participants by more than a factor of two-to-one. When setting up a budget, interpreters should be counted as participants.

IV.3e.2j. Return travel allowance. A return travel allowance of $70 for each foreign participant may be included in the budget. This allowance would cover incidental expenses incurred during international travel.

IV.3e.2k. Re-entry Seminars. Costs related to providing foreign participants a re-entry seminar may include per diem, hotel accommodations, material development, and other related expenses.

IV.3e.2l. Health Insurance. The grant recipient will be responsible for enrolling foreign and U.S. participants in the program by the ECA-sponsored Accident and Sickness Program for Exchanges (ASPE). The premium is paid by ECA and should not be included in the grant proposal budget. Applicants may include costs for travel insurance for U.S. and foreign participants in the budget.

IV.3e.2m. Wire transfer fees. When necessary, applicants may include costs to transfer funds to partner organizations overseas. Grantees are urged to research applicable taxes that may be imposed on these transfers by host governments.

IV.3e.2n. In-country travel costs for visa processing purposes. Visas for foreign participants are provided by DOS and should not be included in the budget. Given the requirements associated with obtaining J-1 visas for ECA-supported participants, applicants should include costs for any travel associated with procuring visas, including travel for interviews, delivering or picking-up passports, etc.

IV.3e.2o. Administrative Costs. Costs necessary for the effective administration of the project may include salaries for grantee organization employees, benefits, and other direct and indirect costs per detailed instructions in the PSI. While there is no rigid ratio of administrative to project costs, proposals in which the administrative costs do not exceed 25% of the total requested ECA grant funds will be more competitive under the cost effectiveness and cost sharing criterion, per item V.1 below. Proposals should show strong administrative cost sharing contributions from the applicant, the in-country partner and other sources.

IV.3e.2p. Professional Exchanges Congresses, Washington, DC: Proposals should incorporate a minimum of three (3) days and four (4) nights in Washington, DC into their project plan in order for each group of participants to attend one of the Professional Exchanges Congresses that will take place in spring (May 2-4, 2012) and fall (November 7-9, 2012.) All logistics, including local transportation, hotel, and meals will be arranged and paid for through a separate grant that will cover expenses for all participants and staff attending the Professional Exchanges Congresses. Expenses for the Professional Exchanges Congress must not be included in your budget. The only allowable costs associated with the Washington, DC-based component are:

1. Travel to/from Washington, DC: PE/C strongly encourages program managers to plan for the Congress to occur at the end of the fellowship period and to send participants home directly from the Washington area. If, for programmatic reasons, the Professional Exchanges Congress must be scheduled before the fellowships are completed, travel from Washington to the next U.S. site should be included in the budget.

2. Additional Days: PE/C strongly encourages program managers to take advantage of the opportunity to arrange meetings with government agencies and national organizations represented in the DC metro area that are relevant to the participants' areas of expertise. If more than three days and four nights are programmed, costs for lodging, meals, and miscellaneous expenses for all additional days should be included in the budget.

3. Cultural/thematic programming: All expenses for cultural and relevant thematic activities programmed on additional days beyond the three days and four nights set aside for the Professional Exchanges Congresses should be included in the budget.

IV.3f. Application Deadline and Methods of Submission

Application Deadline Date: May 12, 2011.

Reference Number: ECA/PE/C-11-01.

Methods of Submission:Applications may be submitted in one of two ways: (1) In hard-copy, via a nationally recognized overnight delivery service (i.e., Federal Express, UPS, Airborne Express, or U.S. Postal Service Express Overnight Mail, etc.), or, (2) electronically through http://www.grants.gov. Along with the Project Title, all applicants must enter the above Reference Number in Box 11 on the SF-424 contained in the mandatory Proposal Submission Instructions (PSI) of the solicitation package.

IV.3f.1. Submitting Printed Applications. Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM.”

The original and eight (8) copies of the application should be sent to: Program Management Division, ECA-IIP/EX/PM, Ref.: ECA/PE/C-11-01, SA-5, Floor 4, Department of State, 2200 C Street, NW., Washington, DC 20037.

Applicants submitting hard-copy applications must also submit the “Executive Summary” and “Proposal Narrative” sections of the proposal in text (.txt) or Microsoft Word format on CD-ROM. As appropriate, the Bureau will provide these files electronically to U.S. Embassy Public Affairs Section(s) for review.

IV.3f.2. Submitting Electronic Applications. Applicants have the option of submitting proposals electronically through Grants.gov (http://www.grants.gov). Complete solicitation packages are available at Grants.gov in the “Find” portion of the system.

Please follow the instructions available in the `Get Started' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. In addition, validation of an electronic submission via Grants.gov can take up to two business days. Therefore, we strongly recommend that you not wait until the application deadline to begin the submission process through Grants.gov. The Grants.gov Web site includes extensive information on all phases/aspects of the Grants.gov process, including an extensive section on frequently asked questions, located under the “For Applicants” section of the Web site. ECA strongly recommends that all potential applicants review thoroughly the Grants.gov website, well in advance of submitting a proposal through the Grants.gov system. ECA bears no responsibility for data errors resulting from transmission or conversion processes. Direct all questions regarding Grants.gov registration and submission to: Grants.gov Customer Support, Contact Center Phone: 800-518-4726, Business Hours: Monday-Friday, 7 a.m.-9 p.m. Eastern Time, E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review.

Proposals may also be reviewed by the Office of the Legal Adviser or by other Department elements. Final funding decisions are at the discretion of the Department of State's Assistant Secretary for Educational and Cultural Affairs. Final technical authority for assistance award grants resides with the Bureau's Grants Officer.

V.2. Review Criteria

Technically eligible applications will be competitively reviewed according to the criteria stated below. These criteria are not rank ordered and all carry equal weight in the proposal evaluation:

V.2a. Quality of Project Idea: Proposals should exhibit originality, substance, precision, and direct linkage to the goals of ECA/PE/C's Professional Exchanges Program as well as relevance to the Bureau's mission of mutual understanding. Proposals should demonstrate a realistic and achievable scope that fits within the budgetary and time parameters set forth in the RFGP.

V.2b. Project Planning and Ability to Achieve Objectives: Project objectives should be framed from the participant perspective, targeting participant satisfaction with the project, his/her learning and changes in behavior as a result of the project, and institutional change as a result of the participant having taken part in the project. A detailed agenda should demonstrate how and when these objectives will be achieved. A project management plan should provide, in table format, outputs (major events or tasks by the grantee and/or partner organizations), dates, and the person or group responsible. Responsibilities of proposed in-country partners should be clearly described.

V.2c. Project Monitoring and Evaluation:

Proposals should include a detailed plan to monitor and evaluate the effectiveness and overall impact of the project. Project objectives should target clearly defined results in quantitative terms. Competitive evaluation plans will describe how applicant organizations would measure these results, and proposals should include draft data collection instruments (surveys, questionnaires, de-briefing sessions, etc.) in Tab E.

V.2d. Institutional Capacity: Proposals should include (1) The institution's mission and date of establishment; (2) detailed information about proposed in-country partner(s) and the history of the partnership; (3) an outline of prior awards—U.S. government and/or private support received for the target theme/country/region; and (4) descriptions of experienced staff members who will implement the program. The proposal should reflect the institution's expertise in the subject area and knowledge of the conditions in the target country/countries. Proposals should demonstrate an institutional record of successful exchange programs, including responsible fiscal management and full compliance with all reporting requirements for past Bureau grants as determined by Bureau Grants Staff. The Bureau will consider the past performance of prior recipients and the demonstrated potential of new applicants. Proposed personnel and institutional resources should be adequate and appropriate to achieve the program's goals. The Bureau strongly encourages applicants to submit letters of support from proposed in-country partners.

V.2e. Cost Effectiveness and Cost Sharing: Overhead and administrative costs in the proposal budget, including salaries, honoraria and subcontracts for services, should be kept to a minimum. The number of participants and actual project days should be maximized. Proposals that employ other creative techniques to increase or stretch funding dollars, such as home-stays for foreign participants, and funding or in-kind support from other public and private partners, will be deemed more competitive. Proposals in which the administrative costs do not exceed 25% of the total requested ECA grant funds will be more competitive (see IV.3e.2 14 for clarification on this). Applicants are strongly encouraged to cost share a portion of overhead and administrative expenses. Cost-sharing, including contributions from the applicant, proposed in-country partner(s), and other sources should be included in the budget request. Proposal budgets that do not reflect cost sharing will be deemed not competitive on this criterion.

V.2f. Support of Diversity: Proposals should demonstrate substantive support of the Bureau's policy on diversity. Achievable and relevant features should be cited in both project administration (selection of participants, project venues and evaluation) and program content (orientation and wrap-up sessions, meetings, resource materials and follow-up activities). Applicants should refer to the Bureau's Diversity, Freedom and Democracy Guidelines in the Proposal Submission Instructions (PSI).

V.2g. Post-Grant Activities: Applicants should provide a plan to conduct activities after the Bureau-funded project has concluded in order to ensure that Bureau-supported programs are not isolated events. Funds for all post-grant activities must be in the form of contributions from the applicant or sources outside of the Bureau. Costs for these activities must not appear in the proposal budget, but should be outlined in the narrative.

VI. Award Administration Information

VI.1. Award Notices. Final awards cannot be made until funds have been appropriated by Congress, allocated and committed through internal Bureau procedures. Successful applicants will receive a Federal Assistance Award (FAA) from the Bureau's Grants Office. The FAA and the original proposal with subsequent modifications (if applicable) shall be the only binding authorizing document between the recipient and the U.S. Government. The FAA will be signed by an authorized Grants Officer, and mailed to the recipient's responsible officer identified in the application. Unsuccessful applicants will receive notification of the results of the application review from the ECA program office coordinating this competition.

VI.2a. Additional Requirements for the Palestinian Authority, West Bank, and Gaza. All awards made under this competition must be executed according to all relevant U.S. laws and policies regarding assistance to the Palestinian Authority, and to the West Bank and Gaza. Organizations must consult with relevant Public Affairs Offices before entering into any formal arrangements or agreements with Palestinian organizations or institutions.

Note: To assure that planning for the inclusion of the Palestinian Authority complies with requirements, please contact Tom Johnston, Tel. (202) 632-6056; e-mail: JohnstonTJ@state.gov for additional information.

VI.2b. Special Provision for Performance in a Designated Combat Area (Currently Iraq and Afghanistan)

All Recipient personnel deploying to areas of combat operations, as designated by the Secretary of Defense (currently Iraq and Afghanistan), under assistance awards over $100,000 or performance over 14 days must register in the Department of Defense maintained Synchronized Pre-deployment and Operational Tracker (SPOT) system. Recipients of federal assistance awards shall register in SPOT before deployment, or if already in the designated operational area, register upon becoming an employee under the assistance award, and maintain current data in SPOT. Information on how to register in SPOT will be available from your Grants Officer or Grants Officer Representative during the final negotiation and approval stages in the federal assistance awards process. Recipients of federal assistance awards are advised that adherence to this policy and procedure will be a requirement of all final federal assistance awards issued by ECA.

Recipient performance may require the use of armed private security personnel. To the extent that such private security contractors (PSCs) are required, grantees are required to ensure they adhere to Chief of Mission (COM) policies and procedures regarding the operation, oversight, and accountability of PSCs.

VI.3. Administrative and National Policy Requirements

Terms and Conditions for the Administration of ECA agreements include the following Office of Management and Budget (OMB) guidance:

• Circular A-122, “Cost Principles for Nonprofit Organizations.”

• Circular A-21, “Cost Principles for Educational Institutions.”

• Circular A-87, “Cost Principles for State, Local and Indian Governments.”

• Circular A-110 (Revised), Uniform Administrative Requirements for Grants and Agreements with Institutions of Higher Education, Hospitals, and other Nonprofit Organizations.

• Circular No. A-102, Uniform Administrative Requirements for Grants-in-Aid to State and Local Governments.

• Circular A-133, Audits of States, Local Government, and Non-profit Organizations.

Please reference http://www.whitehouse.gov/omb/grants_circulars/for additional information:

VI.4. Reporting Requirements. You must provide ECA with a hard copy original plus one electronic copy of the following reports:

VI.4a. Final Reports. A final program and financial report no more than 90 days after the expiration of the award;

VI.4b. One-Page Report. A concise, one-page final program report summarizing program outcomes no more than 90 days after the expiration of the award. This one-page report will be transmitted to OMB, and be made available to the public via OMB's USAspending.gov Web site—as part of ECA's Federal Funding Accountability and Transparency Act (FFATA) reporting requirements.

VI.4c. SF-PPR. A SF-PPR, “Performance Progress Report” Cover Sheet should be submitted with all program reports.

VI.4d. Quarterly reports. Quarterly program and financial reports should be submitted for the duration of the program. For program reports, award recipients will be required to provide reports analyzing their evaluation findings to the Bureau. (Please refer to section IV.3.d.3, “Program Monitoring and Evaluation”) All data collected, including survey responses and contact information, must be maintained for a minimum of three years and provided to the Bureau upon request. All reports must be sent to the ECA Grants Officer and ECA Program Officer listed in the final assistance award document.

VI.5. Additional Program Data Requirements

VI.5a. Data on Program participants and activities. Award recipients will be required to maintain specific data on program participants and activities in an electronically accessible database format that can be shared with the Bureau as required. At a minimum, the data must include the following: Name, address, contact information and biographic sketch of all persons who travel internationally on funds provided by the agreement or who benefit from the award funding but do not travel.

VI.5b. Travel. Itineraries of international and domestic travel, providing dates of travel and cities in which any exchange experiences take place. Final schedules for in-country and U.S. activities must be received by the ECA Program Officer at least three work days prior to the official opening of the activity.

VII. Agency Contacts

For questions about this announcement, contact: Carol Herrera, Office of Citizen Exchanges, ECA/PE/C, U.S. Department of State, SA-5, 3rd Floor, 2200 C St., NW., Washington, DC 20522-0503, phone: (202) 632-6054, e-mail: herreraca1@state.gov. All correspondence with the Bureau concerning this RFGP should reference the above title and number ECA/PE/C-11-01.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.4 above.

Dated: March 9, 2011.
Ann Stock,
Assistant Secretary for Educational and Cultural Affairs, Department of State.

[FR Doc. 2011-6276 Filed 3-16-11; 8:45 am]

BILLING CODE 4710-05-P